DEPARTMENT OF COMMERCE

National Oceanic and Atmospheric Administration

Meeting of the Advisory Committee on Commercial Remote Sensing

ACTION: Notice of meeting.

SUMMARY: The Advisory Committee on Commercial Remote Sensing (ACCRES) will meet September 21, 2016. The meeting will be held, in accordance with Section 10(d) of the Federal Advisory Committee Act, 5 U.S.C. App. 2, and with Section 552b(c)(1) of Title 5, United States Code.

DATES: The meeting is scheduled as follows: September 21, 2016, 9:00 a.m.-4:00 p.m. The meeting will be open to the public from 9:00 a.m.-12:00 p.m. and a closed session will be held from 1:00 p.m.-4:00 p.m.

ADDRESSES: The public portion of the meeting will be held at The Aerospace Corporation, Gambit Auditorium, Room L0037, 14745 Lee Road, Chantilly, VA 20151.

FOR FURTHER INFORMATION CONTACT: Tahara Dawkins, NOAA/NESDIS/CRSRA, 1335 East West Highway, Room 8260, Silver Spring, Maryland 20910; (301) 713-3385, Tahara.Dawkins@noaa.gov, or Samira Patel at (301) 713-7077, samira.patel@noaa.gov.

SUPPLEMENTARY INFORMATION: As required by section 10(a)(2) of the Federal Advisory Committee Act, 5 U.S.C. App. (1982) and its implementing regulations, see 41 CFR 102-3.155, notice is hereby given of the meeting of ACCRES. ACCRES was established by the Secretary of Commerce (Secretary) on May 21, 2002, to advise the Secretary of Commerce through the Under Secretary of Commerce for Oceans and Atmosphere on matters relating to the U.S. commercial remote sensing space industry and on [the National Oceanic and Atmospheric Administration]'s activities to carry out the responsibilities of the Department of Commerce set forth in the National and Commercial Space Programs Act of 2010 (51 U.S.C. 60101 et seq.).

Exceptional Circumstances

Pursuant to 41 CFR 102-3.150, the notice for this meeting is being given fewer than 15 calendar days prior to the meeting due to the following exceptional circumstances: (i) The review and clearance process for the Notice of Determination to partially close the meeting, which is required under 41 CFR 102-3.155, involved administrative and timing limitations, including in this instance the additional delay resulting from the Labor Day holiday; and (ii) due to preexisting commitments and statutorily-established deadlines, delaying the September 21, 2016 meeting would make it substantially more difficult for ACCRES to complete its required consultation on the report mandated by Section 202 of the U.S. Commercial Space Launch and Competitiveness Act, Public Law 114-90.

Purpose of the Meeting and Matters To Be Considered

The first part of the meeting will be open to the public pursuant to Section 10(a)(1) of the Federal Advisory Committee Act, 5 U.S.C. App. 2 (FACA). During the open portion of the meeting, the Committee will receive updates on NOAA's Commercial Remote Sensing Regulatory Affairs activities. The Committee will also be available to receive public comments on its activities.

The second part of the meeting will be closed to the public pursuant to Section 10(d) of FACA as amended by Section 5(c) of the Government in Sunshine Act, Public Law 94-409 and in accordance with Section 552b(c)(1) of Title 5, United States Code, which authorizes closure of meetings likely to disclose matters that are “specifically authorized under criteria established by Executive order to be kept secret in the interests of national defense or foreign policy and . . . in fact properly classified pursuant to such Executive order.” The part of the meeting which will be closed will address the ongoing review and implementation of the 2015 U.S. Commercial Space Launch Competitiveness Act and related national security, foreign policy concerns and future technology considerations for NOAA's licensing decisions. These discussions are likely to disclose matters that are specifically authorized under criteria established by Executive Order 13526 to be kept secret in the interest of national defense or foreign policy and are in fact properly classified pursuant to such Executive Order. In compliance with Section 10(d) of FACA and 41 CFR 102-3.155, ACCRES has obtained an agency determination of closure, and the notice of this determination is available upon request.

Special Accommodations

The meeting is physically accessible to people with disabilities. Requests for special accommodations may be directed to ACCRES, NOAA/NESDIS/CRSRA, 1335 East West Highway, Room 8260, Silver Spring, Maryland 20910.

Additional Information and Public Comments

Any member of the public who plans to attend the open meeting should RSVP to Samira Patel at (301) 713-7077, samira.patel@noaa.gov by September 15, 2016. Any member of the public wishing further information concerning the meeting or who wishes to submit oral or written comments should contact Tahara Dawkins, Designated Federal Officer for ACCRES, NOAA/NESDIS/CRSRA, 1335 East West Highway, Room 8260, Silver Spring, Maryland 20910. Copies of the draft meeting agenda can be obtained from Samira Patel at (301) 713-7077, fax (301) 713-1249, or email samira.patel@noaa.gov.

ACCRES expects that public statements presented at its meetings will not be repetitive of previously-submitted oral or written statements. In general, each individual or group making an oral presentation may be limited to a total time of five minutes. Written comments (provide at least 20 copies) sent to NOAA/NESDIS/CRSRA on or before September 21, 2016 will be provided to Committee members in advance of the meeting. Comments received too close to the meeting date will normally be provided to Committee members at the meeting.

Stephen M. Volz,
Assistant Administrator for Satellite and Information Services.

[FR Doc. 2016-21461 Filed 9-6-16; 8:45 am]

BILLING CODE 3510-HR-P